GOVERNMENT PUBLISHING OFFICE

Depository Library Council Meeting

AGENCY: Government Publishing Office.

ACTION: Notice of meeting.

SUMMARY: The Depository Library Council (DLC) will meet virtually in conjunction with the Federal Depository Library Conference from Monday, October 16, 2023, through Wednesday, October 18, 2023. The sessions will take place from 12 p.m. to 5:30 p.m. (EDT). The meetings will take place online, and anyone can register to attend at https://www.fdlp.gov/2023-fdl-conference. Closed captioning will also be provided. The purpose is to discuss matters affecting the Federal Depository Library Program. All sessions are open to the public.

DATES: October 16-18, 2023.

Hugh Nathanial Halpern,
Director, U.S. Government Publishing Office.

[FR Doc. 2023-22404 Filed 10-6-23; 8:45 am]

BILLING CODE 1520-01-P